DEPARTMENT OF AGRICULTURE

Federal Crop Insurance Corporation

7 CFR Part 457

RIN 0563-AB96

Common Crop Insurance Regulations, Basic Provisions; and Various Crop Insurance Provisions

AGENCY: Federal Crop Insurance Corporation, USDA.

ACTION: Notice of reopening and extension of comment period.

SUMMARY: The Federal Crop Insurance Corporation (FCIC) is reopening and extending the comment period for the proposed rule published in the Federal Register on Friday, July 14, 2006 (71 FR 40194-40252). The proposed rule contains certain provisions to combine and provide revenue protection and yield protection within one standard crop insurance policy, and to improve prevented planting and other provisions to better meet the needs of insured producers. During the comment period, FCIC received comments that due to the complexity of the proposed changes, sixty days was not adequate to properly address all the issues. FCIC agrees that additional time is appropriate to ensure that all interested persons have time to fully review the proposed rule and provide meaningful comments.

DATES: Written comments and opinions on this proposed rule will be accepted until close of business October 26, 2006 and will be considered when the rule is to be made final.

ADDRESSES: Interested persons are invited to submit comments, titled “Combination Basic and Crop Provisions”, by any of the following methods:

• By mail to: Director, Product Administration and Standards Division, Risk Management Agency, United States Department of Agriculture, 6501 Beacon Drive, Stop 0812, Room 421, Kansas City, MO 64133-4676.

• E-mail: DirectorPDD@rma.usda.gov.

• Federal eRulemaking Portal: http://www.regulations.gov. Follow the instructions for submitting comments.

A copy of each response will be available for public inspection and copying from 7 a.m. to 4:30 p.m., c.s.t., Monday through Friday, except holidays, at the above address.

FOR FURTHER INFORMATION CONTACT: For further information contact Louise Narber, Risk Management Specialist, Product Management, Product Administration and Standards Division, Risk Management Agency, at the Kansas City, MO address listed above, telephone (816) 926-7730.

SUPPLEMENTARY INFORMATION:

Background

On Friday, July 14, 2006, FCIC published a proposed rule in the Federal Register. The rule proposed changes to the Common Crop Insurance Regulations; Basic Provisions, Small Grains Crop Insurance Provisions, Cotton Crop Insurance Provisions, Coarse Grains Crop Insurance Provisions, Malting Barley Crop Insurance Provisions, Rice Crop Insurance Provisions, and Canola and Rapeseed Crop Insurance Provisions. The proposed rule contains certain provisions to combine and provide revenue protection and yield protection within one standard crop insurance policy, and to make other changes to existing policy provisions to better meet the needs of the insured.

The proposed rule public comment period of 60 days ended on September 12, 2006. Based on several requests received during the comment period, FCIC is reopening and extending the comment period until October 26, 2006. This action will allow interested persons additional time to prepare and submit comments regarding the proposed rule.

* * * * *

Signed in Washington, DC, on September 19, 2006.
Eldon Gould,
Manager, Federal Crop Insurance Corporation.

[FR Doc. 06-8216 Filed 9-25-06; 8:45 am]

BILLING CODE 3410-08-P